DEPARTMENT OF TRANSPORTATION

National Highway Traffic Safety Administration

[U.S. DOT Docket No. NHTSA-2016-0034]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before May 20, 2016.

ADDRESSES: You may submit comments identified by DOT Docket ID Number NHTSA-2016-0034 using any of the following methods:

Electronic submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-202-493-2251.

Instructions: Each submission must include the Agency name and the Docket number for this Notice. Note that all comments received will be posted without change to http://www.regulations.gov including any personal information provided.

FOR FURTHER INFORMATION CONTACT: Dr. Kristie Johnson, Office of Behavioral Safety Research (NPD-310), National Highway Traffic Safety Administration, 1200 New Jersey Avenue SE., W46-498, Washington, DC 20590. Dr. Johnson's phone number is 202-366-2755 and her email address is kristie.johnson@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Title: Countermeasures That Work (9th and 10th Editions) and Countermeasures At Work (1st and 2nd Editions).

Type of Request: New information collection requirement.

OMB Clearance Number: None.

Form Numbers: NHTSA 1343 and NHTSA 1344.

Requested Expiration Date of Approval: 3 years from date of approval.

Summary of the Collection of Information: The National Highway Traffic Safety Administration (NHTSA) proposes to collect user feedback on the Countermeasures That Work and Countermeasures At Work guides. These guides were developed for the State Highway Safety Offices (SHSOs) to assist them in developing programs for implementing safety countermeasures in nine program area of alcohol-impaired and drugged driving, seat belt use and child restraints, aggressive driving and speeding, distracted and drowsy driving, motorcycle safety, young drivers, older drivers, pedestrians, and bicyclists. The Countermeasures That Work guide covers each of these program areas in separate chapters that include a short background section relaying current data trends, which is followed by a description of applicable countermeasures, and an explanation their effectiveness, use, costs, and time to implement. The Countermeasures At Work guide will elaborate on some of the countermeasures contained in the Countermeasures That Work guide by providing real world examples and details on localities where specific countermeasures were put into place. The countermeasure descriptions may include details about locality size, implementation issues, cost, stakeholders to involve, challenges, evaluation, and outcomes. To collect this information for the new guide NHTSA proposes to collect information from representatives from the SHSOs and/or local jurisdictions, in addition to representative from Governors Highway Safety Association (GHSA), State Coordinators, and other relevant stakeholders. The survey will ask the representatives about the following information:

• Their background, including job roles and responsibilities, which provide context for document use,

• What are their key information needs for the document, including obtaining details of specific use-case examples such as locality size, implementation issues, cost, stakeholders to involve, challenges, evaluation, and outcomes,

• Opinions on document structure, format, and content, which includes using a consistent question format for different information items/sections in the document,

• Opinions about specific aspects and potential changes or improvements pertaining to examples of alternative presentation formats,

• Opinions about how the Countermeasures At Work guide would be used, what information should be included, and if stakeholders have information about good locality examples, and

• Opinions about features or topics that should be included both guides, such as the additions of figures and illustrations, and adjustments to the design of topic subsections.

Description of the Need for the Information and Proposed Use of the Information: The NHTSA is an agency of the U.S. Department of Transportation (DOT). NHTSA's mission is to save lives, prevent injuries, and reduce traffic-related health care and other economic costs. The agency develops, promotes, and implements effective educational, engineering, and enforcement programs with the goal of ending preventable tragedies and reducing economic costs associated with vehicle use and highway travel. The public health approach to traffic safety has resulted in a mix of countermeasures, and the choices among them are driven by research on their effectiveness. Generally this approach includes some combination of countermeasures aimed at improving safety in terms of improved vehicles, education, improved roads, enhanced road user perception, and behavior and better enforcement of traffic safety laws. In 2005, the Governors Highway Safety Association and the National Highway Traffic Safety Administration developed a guide of Countermeasures That Work for the State Highway Safety Offices that provides a basic reference to assist in selecting effective, evidence-based countermeasures for traffic safety problem areas. In the current research project, NHTSA is also proposing to develop an extension of the guide—Countermeasures At Work that will provide details on real world implementations of countermeasures to assist the SHSOs with countermeasure selection process. Both Countermeasures That Work and Countermeasures At Work will serve as basic references on traffic safety measures that State Highway Safety Offices use to develop policy, and make decisions about the implementation of safety programs for reducing traffic fatalities. The data collected in this project will help update and improve both guides.

Description of the Likely Respondents (Including Estimated Number, and Proposed Frequency of Response to the Collection of Information): It is expected that conducting this research will require interviewing up to 250 representatives from the SHSOs and/or local jurisdictions, in addition to representatives from the Governors Highway Safety Association (GHSA), State Coordinators from across the United States, and other important stakeholders. On average about 80 structured interviews (in person or by telephone) will be conducted each of the three project years. It is expected that most of the participants in the first round of interviews will participate in the second round of interviews, so the total number of individuals interviewed will be substantially less than 250.

Estimate of the Total Annual Reporting and Record Keeping Burden Resulting From the Collection of Information: The estimated completion time for each semi-structured interview is 90 minutes per interview per participant. The total estimated annual burden if all solicited participants respond is approximately 125 hours. Participants will incur no costs and no record keeping burden from the information collection. Participants will also receive no compensation from the project for their involvement in the interviews.

Authority: 44 U.S.C. Section 3506(c)(2)(A).

Issued in Washington, DC, on March 16, 2016.
Jeff Michael,
Associate Administrator, Research and Program Development.

[FR Doc. 2016-06258 Filed 3-18-16; 8:45 am]

BILLING CODE 4910-59-P